DEPARTMENT OF HOMELAND SECURITY

U.S. Customs and Border Protection

U.S. Customs and Border Protection 2012 West Coast Trade Symposium: “Harmonizing Trade for a Stronger Economy”

AGENCY: U.S. Customs and Border Protection, Department of Homeland Security.

ACTION: Notice of trade symposium.

SUMMARY: This year, U.S. Customs and Border Protection (CBP) will be holding two trade symposia. One trade symposium will be held on the West Coast in May and the other will be on the East Coast later in the year. This document announces that CBP will convene the 2012 West Coast Trade Symposium to discuss issues relating to the agency's role in international trade initiatives and programs. This year marks our twelfth year hosting trade symposia. Members of the international trade and transportation communities and other interested parties on the West Coast are encouraged to attend.

DATES: Thursday, May 10, 2012, 8:30 a.m. to 3 p.m.

ADDRESSES: The CBP 2012 West Coast Trade Symposium will be held at the Long Beach Convention and Entertainment Center in the Grand Ballroom at 300 E. Ocean Boulevard, Long Beach, CA 90802.

FOR FURTHER INFORMATION CONTACT: The Office of Trade Relations at (202) 344-1440, or at tradeevents@dhs.gov. To obtain the latest information on the Symposium and to register online, visit the CBP Web site at http://www.cbp.gov. Requests for special needs should be sent to the Office of Trade Relations at tradeevents@dhs.gov.

SUPPLEMENTARY INFORMATION: CBP will be holding two trade symposia this year, one on the West Coast and one on the East Coast. This year's theme for the Trade Symposium is “Harmonizing Trade for a Stronger Economy.” This document announces that the West Coast trade symposium will be held in Long Beach, California on May 10, 2012. The format of this year's West Coast symposium will be held in a general session; there will be no breakout sessions. Discussions will be held regarding CBP's role in international trade initiatives and programs.

The agenda for the 2012 West Coast Trade Symposium and the keynote speakers will be announced at a later date on the CBP Web site (http://www.cbp.gov). The registration fee is $225.00 per person. Interested parties are requested to register early, as space is limited. Registration will open to the public on or about March 19, 2012. All registrations must be made on-line at the CBP Web site (http://www.cbp.gov) and will be confirmed with payment by credit card only.

Due to the overwhelming interest to attend past symposia, each company is requested to limit their company's registrations to no more than three participants, in order to afford equal representation from all members of the international trade community. If a company exceeds the limitation, any additional names submitted for registration will automatically be placed on the waiting list.

As an alternative to on-site attendance, access to live webcasting of the event will be available for a fee of $35.00. This includes the broadcast and historical access to recorded sessions for a period of time after the event. Registration for this is on-line as well.

Please note that the 2012 East Coast Trade Symposium will be held later in the year.

Hotel accommodations will be announced at a later date on the CBP Web site (http://www.cbp.gov).

Dated: March 14, 2012.
Maria Luisa O'Connell,
Senior Advisor for Trade and Public Relations, Office of Trade Relations.

[FR Doc. 2012-6589 Filed 3-16-12; 8:45 am]

BILLING CODE 9111-14-P